FEDERAL COMMUNICATIONS COMMISSION

[Report No. 2711]

Petitions for Reconsideration of Action in Rulemaking Proceeding

May 23, 2005.

Petitions for Reconsideration have been filed in the Commission's Rulemaking proceeding listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to these petitions must be filed by June 16, 2005. See § 1.4(b)(1) of the Commission's rules (47 CFR 1.4(b)(1)). Replies to an opposition must be filed within 10 days after the time for filing oppositions have expired.

Subject: In the Matter of Amendment of Part 22 of the Commission's Rules to Benefit the Consumers of Air-Ground Telecommunications Services (WT Docket No. 03-103); Biennial Regulatory Review—Amendment of Parts 1, 22 and 90 of the Commission's Rules; Application of Verizon Airfone Inc for Renewal of 800 MHz Air-Ground Radiotelephone License, Call Sign KNKG804 (File No. 0001716212).

Number of Petitions Filed: 2.

Marlene H. Dortch,
Secretary.

[FR Doc. 05-10734 Filed 5-31-05; 8:45 am]

BILLING CODE 6712-01-P